DEPARTMENT OF COMMERCE

National Oceanic and Atmospheric Administration

50 CFR Part 679

RIN 0648-AU20

Fisheries of the Exclusive Economic Zone Off Alaska; Revised Management Authority for Dark Rockfish in the Bering Sea and Aleutian Islands Management Area and the Gulf of Alaska

AGENCY: National Marine Fisheries Service (NMFS), National Oceanic and Atmospheric Administration (NOAA), Commerce.

ACTION: Availability of a proposed amendment to a fishery management plan; request for comments.

SUMMARY: The North Pacific Fishery Management Council has submitted Amendment 73 to the Fishery Management Plan for Groundfish of the Bering Sea and Aleutian Islands Management Area and Amendment 77 to the Fishery Management Plan for Groundfish of the Gulf of Alaska (collectively, Amendments 73/77) for Secretarial (Commerce) approval. If approved, Amendments 73/77 would remove dark rockfish (Sebastes ciliatus) from both fishery management plans (FMPs). Consequently, the State of Alaska would then assume management of dark rockfish in the Bering Sea and Aleutian Islands Management Area and the Gulf of Alaska. This action is necessary to allow the State of Alaska to implement more responsive, regionally based management of dark rockfish than is currently possible under the FMPs. This action would improve conservation and management of dark rockfish and is intended to promote the goals and objectives of the Magnuson-Stevens Fishery Conservation and Management Act, the FMPs, and other applicable laws.

DATES: Comments on the proposed amendments must be received on or before November 17, 2008.

ADDRESSES: Send comments to Sue Salveson, Assistant Regional Administrator, Sustainable Fisheries Division, Alaska Region, NMFS, Attn: Ellen Sebastian. You may submit comments, identified by RIN 0648-AU20 by any one of the following methods:

• Electronic Submissions: Submit all electronic public comments via the Federal eRulemaking Portal website at http://www.regulations.gov.

• Mail: P. O. Box 21668, Juneau, AK 99802.

• Fax: (907) 586-7557.

• Hand delivery to the Federal Building: 709 West 9th Street, Room 420A, Juneau, AK.

All comments received are a part of the public record and will generally be posted to http://www.regulations.gov without change. All Personal Identifying Information (e.g., name, address, etc.) voluntarily submitted by the commenter may be publicly accessible. Do not submit Confidential Business Information or otherwise sensitive or protected information.

NMFS will accept anonymous comments (enter N/A in the required fields, if you wish to remain anonymous). Attachments to electronic comments will be accepted in Microsoft Word, Excel, WordPerfect, or Adobe portable document file (pdf) formats only.

Copies of Amendments 73/77 and the Environmental Assessment/Regulatory Impact Review/Initial Regulatory Flexibility Analysis (EA/RIR/IRFA) prepared for this action are available from the Alaska Region NMFS at the address above or from the Alaska Region NMFS website at http://alaskafisheries.noaa.gov.

FOR FURTHER INFORMATION CONTACT: Jennifer Hogan, 907-586-7228.

SUPPLEMENTARY INFORMATION: The Magnuson-Stevens Fishery Conservation and Management Act (Magnuson-Stevens Act) requires that each Regional Fishery Management Council submit any fishery management plan (FMP) amendment it prepares to the Secretary for review and approval, disapproval, or partial approval. The Magnuson-Stevens Act also requires that NMFS, upon receiving an FMP amendment, immediately publish a notice in the Federal Register that the amendment is available for public review and comment. This action constitutes such notice for Amendments 73/77 to the FMPs.

Amendments 73/77 were unanimously adopted by the North Pacific Fishery Management Council (Council) in April 2007. If approved by the Secretary, these amendments would remove dark rockfish (Sebastes ciliatus) from the FMPs and would thereby allow the State of Alaska (State) to extend its management authority for dark rockfish into Federal waters off the State.

The Council recommended Amendments 73/77 because dark rockfish are a nearshore, shallow-water species which are rarely caught in offshore Federal waters. Dark rockfish currently are contained in the pelagic shelf rockfish (PSR) complex in the Gulf of Alaska. The overfishing limit and acceptable biological catch limit for PSR are based primarily on the stock assessment for dusky rockfish. Dusky rockfish comprise the majority of the total exploitable biomass estimate for the PSR complex. In the Bering Sea and Aleutian Islands management area, dark rockfish are contained within the “other rockfish” complex, the biomass of which is largely comprised of dusky rockfish and thornyhead rockfish. Under Amendments 73/77, the State could implement more responsive, regionally based management of dark rockfish than is possible under the FMPs. State management would reduce the possibility of overexploitation and localized depletion of dark rockfish that could occur if it is continued to be managed within the larger PSR and “other rockfish” complexes under the FMPs.

NMFS is soliciting public comments on Amendments 73/77 through November 17, 2008. A proposed rule that would implement Amendments 73/77 will be published in the Federal Register for public comment at a later date, following NMFS' evaluation under the Magnuson-Stevens Act procedures.

Comments received by November 17, 2008, whether specifically directed to the amendments or the proposed rule will be considered in the approval/disapproval decision on Amendments 73/77. Comments received after that date will not be considered in the FMP amendment approval/disapproval decision. All comments received on Amendments 73/77 or on the proposed rule during their respective comment periods will be addressed in the final rule.

Authority: 16 U.S.C. 1801 et seq.

Dated: September 11, 2008.
James P. Burgess
Acting Director, Office of Sustainable Fisheries, National Marine Fisheries Service.

[FR Doc. E8-21745 Filed 9-16-08; 8:45 am]

BILLING CODE 3510-22-S